DEPARTMENT OF JUSTICE

Notice of Proposed Joint Stipulation to Consent Decree Entered Into Pursuant to the Comprehensive Environmental Response, Compensation And Liability Act

Notice is hereby given that on May 17, 2013, a proposed joint stipulation to an entered Consent Decree filed in United States et al. v. ITT Industries, Inc., et. al., Civil Action No. 99-00552 was lodged with the United States District Court for the Central District of California (Western Division).

On August 2, 2000, the parties to the civil action, including the United States, the State of California, on behalf of the California Department of Toxic Substances Control, the City of Glendale, and several potentially responsible parties, entered into a Consent Decree settlement, pursuant to the Comprehensive Environmental Response, Compensation and Liability Act, which resolved the filed claims of the federal and state governments for the Glendale North and South Operable Units of the San Fernando Valley (Area 2) Superfund Site (Site). Pursuant to the consent decree, certain of the potentially responsible parties (Settling Work Defendants) have been performing and are performing Site remedial actions (Work) required by the consent decree, including, among other actions, a Focused Feasibility Study (FFS).

The parties have reached a proposed joint stipulation that the Settling Work Defendants will not request a Certificate of Completion regarding the Work before November 30, 2018 and, Settling Work Defendants and the City of Glendale shall continue to perform their respective Work required to be performed under the Consent Decree and other requirements of the Consent Decree, including the Performance Standards, FFS and any implementation of Work resulting therefrom, now and into the future until at least November 30, 2018, when additional Site information will be available to the parties, subject in all instances to the terms and applicable conditions set forth in the Consent Decree, and without waiving any rights, defenses and/or remedies that the Plaintiffs, the City of Glendale, or Settling Work Defendants have under the Consent Decree (it being agreed that the implementation Work resulting from the FFS has not yet been determined, and the Settling Work Defendants and/or the City shall be entitled to exercise any and all rights, defenses and remedies under the Consent Decree to object to any implementation of Work that may be ordered by the United States under the Consent Decree).

The publication of this notice opens a period for public comment on the proposed joint stipulation. Comments should be addressed to the Assistant Attorney General, Environment and Natural Resources Division, and should refer to United States et al. v. ITT Industries, Inc., et. al., Civil Action No. 99-00552, D.J. Ref. No. 90-11-2-442A. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Stipulation may be examined and downloaded at this Justice Department Web site: http://www.usdoj.gov/enrd/Consent_Decrees.html. We will provide a paper copy of the Stipulation upon written request and payment of reproduction costs. Please mail your request and payment to: Consent Decree Library, U.S. DOJ—ENRD, P.O. Box 7611, Washington, DC 20044-7611.

Please enclose a check or money order for $4.00 (25 cents per page reproduction cost) payable to the United States Treasury.

Henry S. Friedman,
Assistant Section Chief, Environmental Enforcement Section, Environment and Natural Resources Division.

[FR Doc. 2013-12521 Filed 5-24-13; 8:45 am]

BILLING CODE 4410-15-P